DEPARTMENT OF ENERGY

Federal Energy Regulatory Commission

[Project No. 14660-000]

Cascade Water Alliance: Notice of Preliminary Permit Application Accepted for Filing and Soliciting Comments, Motions To Intervene, and Competing Applications

On February 4, 2015, the Cascade Water Alliance filed an application for a preliminary permit, pursuant to section 4(f) of the Federal Power Act (FPA), proposing to study the feasibility of the White River-Lake Tapps Reservoir Ancillary Hydroelectric Project (White River Project or project) to be located on the White River, in Pierce County, Washington. The sole purpose of a preliminary permit, if issued, is to grant the permit holder priority to file a license application during the permit term. A preliminary permit does not authorize the permit holder to perform any land-disturbing activities or otherwise enter upon lands or waters owned by others without the owners' express permission.

The proposed project would consist of the following existing facilities from a previously licensed project: (1) A 352-foot-long, 4-foot-high rock-filled, timber crib barrier structure with 7-foot-high flashboards; (2) headworks consisting of two slide gates; (3) a 7.75-mile-long flowline from the headworks to Lake Tapps which consists of a concrete flume, five settling basins, a concrete canal, an unlined earthen canal, and two concrete pipes; (4) a fish recovery pond and a fish screen facility along the flowline; (5) a valve house with a new 5 megawatts (MW) turbine/generating unit; (6) a new transmission line from the valve house to a new substation near the valve house; (7) Lake Tapps with a surface area of 2,740 acres and storage capacity of 46,700 acre-feet at elevation 542.5 feet above mean sea level; (8) an intake structure on Lake Tapps; (9) a 12-foot-diamter, 2,842-foot-long concrete lined tunnel; (10) a concrete and steel forebay; (11) four riveted steel penstocks with varying diameters up to 8 feet and lengths up to 1,619 feet; (12) a 225-foot-long, 85-foot-wide, 55-foot-high concrete-framed powerhouse containing an existing 27 MW Francis generating unit and a new 5 MW unit with a total installed capacity of 32 MW; (13) a concrete and timber tailbay; (14) a 3,250-foot-long open channel tailrace; (15) a new 4,181-foot-long, 115-kilovolt transmission line connecting to a nearby substation; and (16) appurtenant facilities. The estimated annual generation of the project would be 50 gigawatt-hours.

Applicant Contact: Chuck Clark, Chief Executive Officer, Cascade Water Alliance, 520 112th Avenue NE., Suite 400, Bellevue, Washington 98004; phone: (425) 453-0930.

FERC Contact: John Matkowski; phone: (202) 502-8576.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14660-000.

More information about this project, including a copy of the application, can be viewed or printed on the “eLibrary” link of Commission's Web site at http://www.ferc.gov/docs-filing/elibrary.asp. Enter the docket number (P-14660) in the docket number field to access the document. For assistance, contact FERC Online Support.

Dated: April 9, 2015.
Kimberly D. Bose,
Secretary.

[FR Doc. 2015-08649 Filed 4-14-15; 8:45 am]

BILLING CODE 6717-01-P